ENVIRONMENTAL PROTECTION AGENCY

[FRL-7804-7]

Agency Information Collection Activities OMB Responses

AGENCY: Environmental Protection Agency (EPA).

ACTION: Notice.

SUMMARY: This document announces the Office of Management and Budget's (OMB) responses to Agency clearance requests, in compliance with the Paperwork Reduction Act (44 U.S.C. 3501 et. seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or e-mail at auby.susan@epa.gov and please refer to the appropriate EPA Information Collection Request (ICR) Number.

SUPPLEMENTARY INFORMATION:

OMB Responses to Agency Clearance Requests

OMB Approvals

EPA ICR No. 1966.02; Reporting and Recordkeeping Requirements for National Emission Standards for Hazardous Air Pollutants for Boat Manufacturing; was approved 07/20/2004; in 40 CFR part 63, subpart VVVV; OMB Number 2060-0546; expires 07/31/2007.

EPA ICR No. 1849.02; Landfill Methane Outreach Program; was approved 07/20/2004; OMB Number 2060-0446; expires 07/31/2007.

EPA ICR No. 1626.08; National Refrigerant Recycling and Emission Reduction Program; was approved 07/20/2004; in 40 CFR part 82, subpart F; OMB Number 2060-0256; expires 07/31/2007.

EPA ICR No. 2126.01; Longitudinal Study of Young Children's Exposures in their Homes to Selected Pesticides, Phthalates, Brominated Flame Retardants, and Perfluorinated Chemicals (A Children's Environmental Exposure Research Study); was approved 07/21/2004; OMB Number 2080-0072; expires 07/31/2007.

EPA ICR No. 1038.11; Invitation for Bids and Request for Proposals (IFBs and RFPs); was approved 07/23/2004; OMB Number 2030-0006; expires 07/31/2007.

EPA ICR No. 1550.06; Conflict of Interest, Rule #1; was approved 07/23/2004; OMB Number 2030-0023; expires 07/31/2007.

EPA ICR No. 1656.11; Information Collection Requirements for Registration and Documentation of Risk Management Plans under Section 112(r) of the Clean Air Act (Final Rule); was approved 07/23/2004; in 40 CFR part 68; OMB Number 2050-0144; expires 10/31/2005.

EPA ICR No. 1604.07; NSPS for Secondary Secondary Brass and Bronze Production, Primary Copper Smelters, Primary Zinc Smelters, Primary Lead Smelters, Primary Aluminum Reduction Plants and Ferroalloy Production Facilities; in 40 CFR part 60, subparts M, P, Q, R, S and Z; was approved 07/23/2004; OMB Number 2060-0110; expires 07/31/2007.

EPA ICR No. 1949.04; National Environmental Performance Track Program (Outreach Award, Mentoring Program Registration, and Customer Service Questionnaire); was approved 07/26/2004; OMB Number 2010-0032; expires 08/31/2006.

EPA ICR No. 1176.07; NSPS for New Residential Wood Heaters; in 40 CFR part 60, subpart AAA; was approved 07/29/2004; OMB Number 2060-0161; expires 07/31/2007.

EPA ICR No. 0616.08; Compliance Requirement for Child-Resistant Packaging; was approved 08/04/2004; OMB Number 2070-0052; expires 08/31/2007.

EPA ICR No. 1250.07; Request for Contractor Access to TSCA Confidential Business Information; was approved 08/04/2004; OMB Number 2070-0075; expires 08/31/2007.

Short Term Extensions

EPA ICR No. 0574.11; Pre-Manufacture Review Reporting and Exemption Requirements for New Chemical Substances and Significant New Use Reporting Requirements for Chemical Substances; on 07/29/2004 OMB extended the expiration date to 10/31/2004

Dated: August 11, 2004.
Oscar Morales,
Director, Collection Strategies Division.

[FR Doc. 04-19343 Filed 8-23-04; 8:45 am]

BILLING CODE 6560-50-P